DEPARTMENT OF LABOR

Occupational Safety and Health Administration

29 CFR Part 1926

[Docket No. H011G]

RIN No. 1218-AB89

Announcement of Stakeholder Meetings for Hearing Conservation Program for Construction Workers

AGENCY: Occupational Safety and Health Administration (OSHA); Department of Labor.

ACTION: Scheduling of stakeholder meetings.

SUMMARY: The Occupational Safety and Health Administration (OSHA) is inviting the public to participate in informal stakeholder meetings on a Hearing Conservation Program for Construction Workers. The Agency invites the public to address the following subjects: Noise exposure monitoring, audiometric testing, and portability of records for workers in the construction industry with significant noise exposures.

DATES: Stakeholder meetings. Stakeholder meetings will be held on March 24th and 25th, 2004 in Chicago, Illinois, at Embassy Suites Hotel—Rosemont, 5500 North River Road, Rosemont, Illinois 60018 (telephone 847-678-4000, fax 847-928-7659). Both meetings will begin at 8:30 a.m. and end at 12:30 p.m. Interested parties are requested to notify OSHA of their intent to participate in one of the stakeholder meetings by March 8, 2004. Each half day session will have the same agenda and format. Stakeholders are encouraged to attend only one half-day meeting. OSHA plans to schedule an additional meeting in the Washington, DC area at a later date.

ADDRESSES: If you wish to participate in a stakeholder meeting you must notify OSHA by e-mail, facsimile, or mail, as set forth below, giving your name, affiliation, contact information, the stakeholder session you plan to attend, and whether you wish to be an active participant or an observer.

Electronic: OSHA encourages you to submit your notice of intent to participate in a stakeholder meeting via e-mail to garner.christie@dol.gov.

Facsimile: You may fax your notice of intent to participate in a stakeholder meeting to Christie Garner at (202) 693-1678.

Mail: You may also notify OSHA of your intent to participate in a stakeholder meeting, by mail, to Christie Garner, Directorate of Standards and Guidance, Occupational Safety and Health Administration, U.S. Department of Labor, Room N-3718, 200 Constitution Ave., NW., Washington, DC 20210.

FOR FURTHER INFORMATION CONTACT: Michael Seymour, Office of Physical Hazards, Directorate of Health Standards, Occupational Safety and Health Administration, U.S. Department of Labor, Room N-3718, 200 Constitution Avenue, NW., Washington DC 20210, telephone (202) 693-1950.

SUPPLEMENTARY INFORMATION: OSHA issued a section 6(b)(5) health standard mandating a comprehensive hearing conservation program for noise-exposed workers in general industry in 1983. However, no rule was promulgated to cover workers in the construction industry. Studies show that as many as 750,000 construction workers are currently exposed to noise levels of 85 dBA or greater at work. The largest number of worker exposures to excessive noise occurs during road construction, carpentry, and concrete work. International experience and data show that hearing conservation programs in the construction industry can be effective in reducing occupational hearing loss.

On August 5, 2002, the OSHA published an Advance Notice of Proposed Rulemaking (ANPR) addressing noise-induced hearing loss among workers in the construction industry, current practices to reduce this loss, and additional approaches and protections that could be used to prevent such loss in the future (67 FR 50610). The Agency has reviewed the forty-seven comment received in response to the ANPR and other available information. The stakeholder meetings announced here are a continuation of the information gathering process.

Stakeholder Meetings

OSHA requests the public to address the following issues.

• Exposure Monitoring: OSHA seeks further information from stakeholders' experiences on the most effective approach to evaluating noise exposures in construction;

• Audiometric Testing: OSHA seeks practical approaches to providing audiometric testing in construction, where a significant portion of the workforce is transient; and

• Portability of Records: OSHA seeks ideas and approaches on how to create long-term audiometric records for short-term employees, and solicits ideas on how to decrease the difficulty of maintaining historic records, transferring audiometric test results between employers, and ensuring privacy.

The stakeholder meetings will be an opportunity for informal discussion and will allow for the exchange of ideas and points of view; participants are not expected to prepare and present formal testimony. The Agency is interested in hearing first hand from employers and employees in the construction industry their ideas of what can be done to reduce the noise exposures and hearing loss of workers within this industry.

Authority: This notice was prepared under the direction of John L. Henshaw, Assistant Secretary for Occupational Safety and Health. It is issued under sections 4 and 8 of the Occupational Safety and Health Act of 1970 (29 U.S.C. 653, 655, 657).

Issued at Washington, DC, this 18th day of February, 2004.
John L. Henshaw,
Assistant Secretary of Labor.

[FR Doc. 04-3857 Filed 2-23-04; 8:45 am]

BILLING CODE 4510-26-M